DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: Independent Evaluation of the Community Mental Health Services Block Grant Program—NEW

The Substance Abuse and Mental Health Services Administration (SAMHSA), the Center for Mental Health Services (CMHS) administers the Community Mental Health Services Block Grant (CMHS BG). The Community Mental Health Services Block Grant was funded by Congress to develop community-based systems of care for adults with serious mental illness (SMI) and children with severe emotional disorders (SED), and has been the largest Federal program dedicated to improving community mental health services. States have latitude in determining how to spend their funds to support services for adults with SMI and children with SED. The only requirements outlined in the authorizing legislation for State receipt of CMHS BG funds are provisions to increase children's services, create a State mental health planning council, and to develop a State mental health plan to be submitted to the Secretary of Health and Human Services (HHS). The State mental health planning council is to comprise various State constituents including providers, administrators, and mental health services consumers. Each State plan must:

• Provide for the establishment and implementation of an organized community-based system of care for individuals with mental illness.

• Estimate the incidence and prevalence of adults with SMI and children with SED within the State.

• Provide for a system of integrated services appropriate for the multiple needs of children.

• Provide for outreach to and services for rural and homeless populations.

• Describe the financial and other resources necessary to implement the plan and describe how the CMHS BG funds are to be spent.

In addition, Congress included a maintenance-of-effort (MOE) requirement that a State's expenditures for community mental health services be no less than the average spent in the two preceding fiscal years.

The CMHS BG received an adequate rating on the OMB PART in 2003. Clearly in the follow up period to that assessment, one of the critical areas that must be addressed is the expectation that an independent and objective evaluation of the program is to be carried out initially and at regular intervals. In addition, the program evaluation has been designed to be of high quality, sufficient scope and unbiased (with appropriate documentation for each of these elements). In fact it is in addressing an evaluation of the program that critical elements of accountability and program performance are also identified and initially assessed. The rigor of the evaluation is seen in how it addresses the effectiveness of the program's impact with regard to its mission and long term goals. By legislative design the CMHS BG Program has previously focused on legislative compliance. Now it addresses the impact of the program nationally, over time, with a view to coming to terms with identified program deficiencies and the corresponding impact of proposed changes.

In this evaluation, a multi-method evaluation approach is being used to examine Federal and State performance with regard to the CMHS BG and its identified goals. This approach emphasizes a qualitative and quantitative examination of both the CMHS BG process (e.g., activities and outputs in the logic model) and system-level outcomes whereby Federal and State stakeholder perspectives on the CMHS BG, as captured through semi-structured interviews and surveys, are corroborated and compared to the considerable amount of already-collected source documents provided by States and CMHS (e.g., State plans, implementation reports, review summaries and monitoring site visit reports). More specifically, data collection will be conducted using four primary strategies: interviews and surveys of key stakeholders, data abstraction from source documents (i.e., CMHS BG applications and implementation reports), secondary data analysis (e.g., analysis of Uniform Reporting System (URS) data and National Outcome Measures (NOMS), and case studies highlighting important themes and issues relating to State CMHS BG implementation.

This evaluation is also seeking to measure the effectiveness of the CMHS BG through a variety of infrastructure indicators and NOMS measures. Infrastructure refers to the resources, systems, and policies that support the nation's public mental health service delivery system, and is a potential contributor to significant State behavioral health system outcomes. Examples of infrastructure include staff training, consumer involvement in the State mental health system, policy changes, and service availability. Outcomes related to infrastructure and the NOMS were included in the program logic model that has been developed and are expected to be examined through the data collection strategies listed above.

Infrastructure indicators that can be measured in this evaluation, for which some form of data can be collected include:

• Range of available services within a State.

• Capacity (No. of persons served).

• Specialized services (such as co-occurring disorders).

• Number of persons served by evidence-based practices (EBPs).

• Staff credentialing (identify patterns).

• Program accreditation (as a quality marker).

• Staff/workforce development (TA & training available for State staff).

• Connections with other agencies (e.g., MOUs, joint funding, joint appointments).

• Policy changes initiated.

• Policy changes completed.

• Consumer involvement.

Two data collection strategies will be used for this evaluation: Two (2) open-ended interviews and four (4) Web-based surveys. Interviews will be conducted with Federal staff involved in the administration of the CMHS BG and State staff from all States and Territories involved in their State's implementation of the CMHS BG program. The two interview guides, one for Federal staff and one for State staff, range from 54 to 94 open-ended questions. The Federal staff interview is expected to take one hour to complete while the State staff interview is expected to take two hours on average to complete, and can be done over two sessions. Because of the relatively small number of Federal and State staff participating in the evaluation, interviews are an optimal data collection strategy to gather the extensive qualitative data needed for the evaluation while minimizing reporting burden. Federal staff stakeholders will be interviewed in person due to their close proximity to the interviewers and State staff stakeholder interviews will be conducted via conference call. State Mental Health Agency (SMHA) Commissioners will select those State staff who are knowledgeable about the CMHS BG for participation in the interviews. It is anticipated that, at a minimum, a State Planner, State Data Analyst, and the SMHA Commissioner will participate.

The four (4) Web-based surveys will be distributed nationally to State Planning Council Chairs, State Planning Council Members, CMHS BG Regional Reviewers, and CMHS BG Monitoring Site Visitors. The Web-based surveys will be tailored so that each of the four different stakeholder groups will receive survey questions designed to capture their specific knowledge of and experience with the CMHS BG. It is estimated that any one individual stakeholder will require one hour to complete their own survey, which contains a range of 22 to 42 mostly fill-in-the blank type questions. Each member of the four major stakeholder groups will submit their responses to the survey online over a three-week period.

Table 1 summarizes the estimate of the total time burden to Federal and State staff stakeholders resulting from the interviews. Table 2 summarizes the estimate of the total time burden to Planning Council members, Regional Reviewers, and Monitoring Site Visitors resulting from completion of the web-based surveys. Table 3 summarizes the total reporting burden for all data collection strategies.

Table 1.—Estimated Reporting Burden of Interviews
Respondent | Number of respondents | Average hours per interview | Estimated total burden (hours)
State Mental Health Agency Commissioner | 59 | 3.5 | 206.5
State Planners | 59 | 3.5 | 206.5
State Data Analysts | 59 | 3.5 | 206.5
Federal CMHS Block Grant Staff | 20 | 1 | 20
Total Burden | 197 |  | 639.5

Table 2.—Estimated Reporting Burden of Web-Based Surveys
Respondent | Number of respondents | Average hours per survey | Estimated total burden (hours)
Planning Council Members | 2000 | 1 | 2000
Regional Block Grant Reviewers | 35 | 1 | 35
Monitoring Site Visitors | 28 | 1 | 28
Total Burden | 2,063 |  | 2,063

Table 3.—Estimated Reporting Burden of All Data Collection Strategies
Data collection strategy | Estimated total burden (hours)
Interviews | 639.5
Web-based Surveys | 2,063
Total Burden | 2,702.5

Written comments and recommendations concerning the proposed information collection should be sent by September 21, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: August 13, 2007.
Elaine Parry,
Acting Director, Office of Program Services.

[FR Doc. E7-16537 Filed 8-21-07; 8:45 am]

BILLING CODE 4162-20-P